DEPARTMENT OF COMMERCE

National Telecommunications and Information Administration

[Docket Number 000801222-0222-01]

RIN 0660-XX10

Notice of Public Meeting

AGENCY: National Telecommunications and Information Administration, U.S. Department of Commerce.

ACTION: Notice of Public Meeting.

SUMMARY: The National Telecommunications and Information Administration (NTIA) will host a public workshop to examine technological tools and developments that can enhance consumer privacy online. In partnership with the Internet Education Foundation, NTIA will also host a Technology Fair to demonstrate the use and capabilities of a broad spectrum of online privacy technologies.

Information regarding the Online Privacy Technologies Workshop and Technology Fair will be available on NTIA's homepage at <http://www.ntia.doc.gov/ntiahome/privacy/>.

DATES: The workshop and technology fair will be held 9 a.m.-4 p.m. on September 19, 2000.

ADDRESSES: The workshop and technology fair will be located at the U.S. Department of Commerce Main Auditorium and Lobby, 1401 Constitution Avenue, NW., Washington, DC, 20230 (entrance on 14th Street between Constitution and Pennsylvania Avenues).

FOR FURTHER INFORMATION CONTACT: For further information about the workshop, contact either Judy Kilpatrick at NTIA, Department of Commerce, 1401 Constitution Avenue, NW., Room 4701, Washington, DC 20230, telephone (202) 482-1866, facsimile (202) 482-0023, or e-mail <privtech@ntia.doc.gov>; or Wendy Lader at NTIA, Department of Commerce, 1401 Constitution Avenue, NW, Room 4725, Washington, DC 20230, phone (202) 482-1880, facsimile (202) 482-8058, or e-mail <privtech@ntia.doc.gov>.

For further information about the technology fair, contact Tim Lordan at Internet Education Foundation, 1634 I Street, NW, Suite 1107, Washington, DC 20006, phone (202) 638-4370, or e-mail <tim@neted.org>.

SUPPLEMENTARY INFORMATION:

Background

With the rapid increase in online usage and transactions, the protection of online consumer privacy has become a critical issue. The Administration has urged industry to comply with fair information practice principles in connection with any collection, use, or dissemination of personal information. These principles involve the provision of notice, choice, access, security, and enforcement by any web site that collects personal information. Consistent with A Framework for Global Electronic Commerce and these principles, the Administration has strongly advocated development and adoption of privacy policies and self-regulatory codes of conduct developed by the private-sector to protect consumer privacy. This private-sector led approach takes advantage of the unique ability of the private sector to respond quickly to the changing privacy concerns and needs of consumers in a period of rapid technological change and growth in electronic commerce. On a global basis, private sector led, self-regulatory approaches may also provide a more certain enforcement mechanism than legislation in the absence of identical national laws.

These efforts, in conjunction with limited sector-specific legislation, have helped protect the privacy of online users. There is now debate, however, about whether these steps go far enough. The Federal Trade Commission, in its May 2000 report on Fair Information Practices in the Electronic Marketplace, determined that broad, non-sector specific privacy legislation, along with continuing self-regulatory programs, are now necessary to ensure adequate protection of consumer privacy online. The Administration has indicated that legislation may well be appropriate in the next Congress if the private sector is unable to increase significantly the number of websites that observe good privacy practices. A number of bills have been introduced in Congress that would regulate how privacy should be protected online. Whether or not such legislation is enacted, technology tools will play a key role in how Internet users protect their personal information. The Administration has encouraged the development of new technologies that will help online consumers protect their personal information. A wide variety of privacy enhancing technologies are just now becoming available to consumers, or are still in development.

Emerging privacy enhancing technologies reflect a variety of approaches to data protection. Some technologies act as “infomediaries” by helping users manage their online identities, allowing users to keep personally identifying information in personal data stores for release when authorization is given. Other technologies act as anonymity tools that prevent online communications from being linked back to the user. Still other technology tools are designed to work with the Platform for Privacy Preferences (P3P), a standard being developed by the World Wide Web Consortium (W3C) that enables browsers to automatically read a website's privacy policy and, based upon an individual user's set preferences, allow or disallow access to their personal information.

Despite activity in this area, many of these tools are not yet widely known or understood. This workshop and technology fair is intended to provide a forum to expand public awareness of these tools and to explain how they can help protect online privacy, whether in a regulated or a self-regulatory environment.

Workshop Agenda

The workshop is scheduled to begin at 9:00 a.m. and end at 4:00 p.m. The tentative schedule for the workshop is as follows:

The first panel will provide an overview and demonstration of the various kinds of consumer-oriented privacy technologies available or being developed in the marketplace. The second panel will offer a detailed examination and analysis of the Platform for Privacy Preferences (P3P) standard being developed by the World Wide Web Consortium (WC3). The third panel will explore how privacy technologies introduced during the first two panels address the fair information practice principles of notice, choice, access, security and enforcement.

Following a lunch break, the workshop's fourth panel will examine the role that privacy enhancing technologies play in the current self-regulatory environment for online privacy, as well as the role they may play in a more regulatory scheme, whether domestic or international in nature. This panel will also examine the development of privacy technology tools that are intended to enhance children's privacy online. This schedule is subject to change prior to the workshop. Current information on the workshop's agenda will be available on NTIA's homepage at <http://www.ntia.doc.gov/ntiahome/privacy/>.

The Technology Fair will take place throughout the day and allow participants and attendees to view and gain hands-on experience with available or developing technologies that serve to protect consumer privacy online. Current information on the technology fair will be available on the Internet Education Foundation's homepage at <http://www.neted.org>.

Public Participation and Access: The Online Privacy Technologies Workshop and Technology Fair is open to the public, free-of-charge, on a first-come, first-served basis and is physically accessible to people with disabilities. To facilitate entry into the Department of Commerce building, please have a photo identification available and/or a U.S. Government building pass, if applicable. Any member of the public wishing to attend and requiring special services, such as sign language interpretation or other ancillary aids, should contact Wendy Lader at least five (5) days prior to the Workshop at telephone (202) 482-1880 or e-mail <privtech@ntia.doc.gov>.

Kathy Smith,
Chief Counsel.

[FR Doc. 00-20596 Filed 8-11-00; 8:45 am]

BILLING CODE 3510-69-P